DEPARTMENT OF THE INTERIOR

National Park Service

[NPS-WASO-NAGPRA-22875; PPWOCRADN0-PCU00RP14.R50000]

Notice of Inventory Completion: U.S. Army Garrison Fort Leonard Wood, Pulaski County, MO

AGENCY: National Park Service, Interior.

ACTION: Notice.

SUMMARY: U.S. Army Garrison Fort Leonard Wood has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Fort Leonard Wood. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Fort Leonard Wood at the address in this notice by April 6, 2017.

ADDRESSES: Stephanie L. Nutt, Cultural Resources Program Coordinator, Natural Resources Branch, U.S. Army Garrison Fort Leonard Wood, IMLD-PWE, 8112 Nebraska Avenue, Building 11400, Fort Leonard Wood, MO 65473, telephone (573) 596-7607, email stephanie.l.nutt.ctr@mail.mil.

SUPPLEMENTARY INFORMATION: Notice is here given in accordance with the Native American Graves Protection and Repatriation Act (NAGPRA), 25 U.S.C. 3003, of the completion of an inventory of human remains and associated funerary objects under the control of Fort Leonard Wood. The human remains and associated funerary objects were removed from the property within Fort Leonard Wood, Pulaski County, MO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fort Leonard Wood professional staff in consultation with representatives of the Kaw Nation, Oklahoma; Omaha Tribe of Nebraska; Ponca Tribe of Indians of Oklahoma; Ponca Tribe of Nebraska; The Osage Nation (previously listed as the Osage Tribe); and The Quapaw Tribe of Indians.

History and Description of the Remains

In 1982, human remains representing, at minimum, five individuals, including two subadults and one adult, were removed from the Laughlin Cairns Site on Fort Leonard Wood in Pulaski County, MO. The individuals were collected from Cairns 2, 3, and 7 by Environmental Consultants, Inc., during an excavation of site 23PU221. No known individuals were identified. The five associated funerary objects include one thick black rim sherd, one shell tempered with incised lines parallel to the rim; two gray/pink chert flakes; and one small triangular biface flake of white chert.

The human remains and the associated funerary objects from this site date to the Late Maramec Spring subphase (A.D. 900-1500), based on relation to other Cairn burial sites. Cultural affiliation to the aforementioned tribes stems from aboriginal lands established on historical maps and traditional burial practices.

In 1982, human remains representing, at minimum, three individuals, including two adults, were removed from Fort Leonard Wood/Mark Twain National Forest Joint Use Land in Pulaski County, MO. The individuals were collected from a cairn site by Environmental Consultants, Inc. during an excavation of site 23PU222. No known individuals were identified. The 53 associated funerary objects include one beige colored Scallorn projectile point; one pink and gray Scallorn projectile point; one grayish-white long Scallorn projectile point; three large modified pieces of chert; 25 small chert flakes; one small piece of hematite; one large dark brown rough stone; one grayish-tan Scallorn projectile point; one grayish-white Rice projectile point base; one small gray biface; one gray triangular biface; one gray and white long Scallorn projectile point; and 15 Maramec cordmarked sand-tempered ceramic sherds.

The human remains and associated funerary objects from this site date between the Late Woodland (A.D. 400-900) and Late Maramec Spring subphase (A.D. 900-1500) periods, based on the relative dates of the associated funerary objects. Cultural affiliation to the aforementioned tribes stems from aboriginal lands established on historical maps and traditional burial practices.

In 1982, human remains representing, at minimum, 1 adult individual were removed from Fort Leonard Wood/Mark Twain National Forest Joint Use Land in Pulaski County, MO. The individual was collected from a cairn site by Environmental Consultants, Inc., during an excavation of site 23PU224. No known individuals were identified. The four associated funerary objects are four gray banded chert flakes.

The human remains and associated funerary objects from this site date to the Late Maramec Spring subphase (900-1500 A.D.) on the basis of relation to other cairn sites. Cultural affiliation to the aforementioned tribes stems from aboriginal lands established on historical maps and traditional burial practices. Cultural affiliation for the human remains and associated funerary objects was established on historical maps and traditional burial practices. Cultural affiliation was determined to exist between the human remains and associated funerary objects and the Kaw Nation, Oklahoma; Omaha Tribe of Nebraska; Ponca Tribe of Indians of Oklahoma; Ponca Tribe of Nebraska; The Osage Nation (previously listed as the Osage Tribe); and The Quapaw Tribe of Indians.

Determinations Made by Fort Leonard Wood

Officials of Fort Leonard Wood have determined that:

• Pursuant to 25 U.S.C. 3001(9), the human remains described in this notice represent the physical remains of 9 individuals of Native American ancestry.

• Pursuant to 25 U.S.C. 3001(3)(A), the 62 objects described in this notice are reasonably believed to have been placed with or near individual human remains at the time of death or later as part of the death rite or ceremony.

• Pursuant to 25 U.S.C. 3001(2), there is a relationship of shared group identity that can be reasonably traced between the Native American human remains and associated funerary objects and the Kaw Nation, Oklahoma; Omaha Tribe of Nebraska; Ponca Tribe of Indians of Oklahoma; Ponca Tribe of Nebraska; The Osage Nation (previously listed as the Osage Tribe); and The Quapaw Tribe of Indians.

Additional Requestors and Disposition

Lineal descendants or representatives of any Indian tribe or Native Hawaiian organization not identified in this notice that wish to request transfer of control of these human remains and associated funerary objects should submit a written request with information in support of the request to Stephanie L. Nutt, Cultural Resources Program Coordinator, Natural Resources Branch, U.S. Army Garrison Fort Leonard Wood, IMLD-PWE, 8112 Nebraska Avenue, Building 11400, Fort Leonard Wood, MO 65473, telephone (573) 596-7607, email stephanie.l.nutt.ctr@mail.mil, by April 6, 2017. After that date, if no additional requestors have come forward, transfer of control of the human remains and associated funerary objects to the Kaw Nation, Oklahoma; Omaha Tribe of Nebraska; Ponca Tribe of Indians of Oklahoma; Ponca Tribe of Nebraska; The Osage Nation (previously listed as the Osage Tribe); and The Quapaw Tribe of Indians may proceed.

Fort Leonard Wood is responsible for notifying the Kaw Nation, Oklahoma; Omaha Tribe of Nebraska; Ponca Tribe of Indians of Oklahoma; Ponca Tribe of Nebraska; The Osage Nation (previously listed as the Osage Tribe); and The Quapaw Tribe of Indians that this notice has been published.

Dated: February 6, 2017.
Melanie O'Brien,
Manager, National NAGPRA Program.

[FR Doc. 2017-04398 Filed 3-6-17; 8:45 am]

BILLING CODE 4312-52-P